DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroads have petitioned the Federal Railroad Administration (FRA) seeking approval for the discontinuance or modification of the signal system or relief from the requirements of 49 CFR Part 236 as detailed below.

[Docket No. FRA-2000-7700]

Applicant: Union Pacific Railroad Company, Mr. Lee A. Roach, Director—Operating Practices, 1416 Dodge Street, Room 625, Omaha, Nebraska 68179.

The Union Pacific Railroad Company (UP) seeks relief from the requirements of the Rules, Standard and Instructions, Title 49 CFR, Part 236, §§ 236.566, 236.567, and 236.587, in all UP automatic cab signal (ACS) territory west of Council Bluffs, Iowa and Kansas City, Missouri, to the extent as follows:

Section 236.566—That UP be permitted to operate non-equipped foreign or detour train movements, in ACS territory, by wayside signal indications, at maximum authorized timetable speeds, without establishing an absolute block.

Section 236.567—That UP be permitted to operate failure en route, ACS locomotives, by wayside signal indications, at maximum authorized timetable speeds, without establishing an absolute block.

Section 236.587—That UP be permitted to operate a previously tested ACS equipped locomotive, without another departure test, when the locomotive changes direction more than 24 hours after its initial terminal departure test.

Applicant's justification for relief: To place UP on equal footing with competitors that do not have ACS and are allowed to operate solely as governed by regulations applicable to their wayside signal systems. The application of the referenced regulations serves to impede UP operations and effectively place UP at a competitive disadvantage compared to competitors that do not have ACS.

Any interested party desiring to protest the granting of an application shall set forth specifically the grounds upon which the protest is made, and contain a concise statement of the interest of the Protestant in the proceeding. Additionally, one copy of the protest shall be furnished to the applicant at the address listed above.

All communications concerning this proceeding should be identified by the docket number and must be submitted to the Docket Clerk, DOT Central Docket Management Facility, Room PI-401, Washington, D.C. 20590-0001. Communications received within 45 days of the date of this notice will be considered by the FRA before final action is taken. Comments received after that date will be considered as far as practicable. All written communications concerning these proceedings are available for examination during regular business hours (9:00 a.m.-5:00 p.m.) at DOT Central Docket Management Facility, Room PI-401 (Plaza Level), 400 Seventh Street, S.W., Washington, D.C. 20590-0001. All documents in the public docket are also available for inspection and copying on the internet at the docket facility's Web site at ­ http://dms.dot.gov.

FRA expects to be able to determine these matters without an oral hearing. However, if a specific request for an oral hearing is accompanied by a showing that the party is unable to adequately present his or her position by written statements, an application may be set for public hearing.

Issued in Washington, D.C. on October 12, 2000.
Grady C. Cothen, Jr.,
Deputy Associate Administrator for Safety Standards and Program Development.

[FR Doc. 00-26812 Filed 10-18-00; 8:45 am]

BILLING CODE 4910-06-U